DEPARTMENT OF TRANSPORTATION

Federal Highway Administration

Environmental Impact Statement: Davie County, NC

AGENCY: Federal Highway Administration (FHWA), DOT.

ACTION: Notice of intent.

SUMMARY: The FHWA is issuing this notice to advise the public that an environmental impact statement will be prepared for a proposed highway project to improve the U.S. 64 and U.S. 601 corridors in the vicinity of Mocksville and Davie County, North Carolina. (TIP Project R-3111)

FOR FURTHER INFORMATION CONTACT: Mr. Clarence Coleman, PE, Operations Engineer, Federal Highway Administration, 310 New Bern Avenue, Suite 410, Raleigh, North Carolina 27601, Telephone: (919) 856-4350, Extension 133.

SUPPLEMENTARY INFORMATION: The FHWA, in cooperation with the North Carolina Department of Transportation (NCDOT), will prepare an environmental impact statement (EIS) on proposed improvements to the U.S. 64 and U.S. 601 corridors in the vicinity of Mocksville and Davie County. The proposed action will be the construction of a multilane divided controlled access highway on new location from U.S. 64 east of Mocksville to U.S. 601 and/or U.S. 64 northwest of Mocksville. The purpose of this project is to improve traffic flow and safety on the U.S. 64 and U.S. 601 corridors, relieve congestion, and reduce non-essential truck traffic in the Town of Mocksville. The proposed action is consistent with the 1992 Mocksville Thoroughfare Plan and the 2003 Davie County Thoroughfare Plan.

Alternatives studied included: (1) The “no-build” alternative, (2) improve existing facilities, and (3) a controlled access highway on new location.

Letters describing the proposed action and soliciting comments have been sent to appropriate Federal, State and local agencies. Citizens Informational Workshops and meetings with local officials and neighborhood groups have been and will continue to be held in the study area. Public hearings will also be held. Information on the time and place of the workshops and hearings will be provided in the local news media. The draft EIS will be available for public and agency review and comment at the time of hearing.

After the June 1997 scoping meeting, the February 1998 interagency meeting, and the July 2001 meeting with local officials, an environmental study area for the U.S. 64 and U.S. 601 corridor improvements was developed. This study area was presented to the public at a July 2001 Citizens Informational Workshop, at which time public input on this study area was received. In September 2001, NCDOT assembled an interagency project team to obtain input on the purpose and need and preliminary study alternatives. In July 2003, another Citizens Informational Workshop was held by NCDOT, showing the preliminary study alternatives to the public and seeking public input. In January 2004, the interagency project team considered the public input in selecting the detailed study alternatives for the project. A newsletter was mailed to the area residents and project stake holders in March 2004, showing the location of the U.S. 64 and U.S. 601 detailed study alternatives being considered. Due to extensive coordination with the resource agencies, local officials, and the public during the EIS process, no additional scoping meetings will be conducted for the DEIS.

To ensure that the full range of issues related to the proposed action is addressed and all significant issues are identified, comments and suggestions are invited from all interested parties. Comments and questions concerning the proposed action should be directed to the FHWA at the address provided above.

(Catalog of Federal Domestic Assistance Program Number 20.205, Highway Research Planning and Construction. The regulations implementing Executive Order 12372 regarding intergovernmental consultation on Federal programs and activities apply to this program.)

Issued on: June 26, 2007.
Clarence W. Coleman,
Operations Engineer Raleigh, North Carolina.

[FR Doc. E7-12724 Filed 6-29-07; 8:45 am]

BILLING CODE 4910-22-P